FEDERAL COMMUNICATIONS COMMISSION

47 CFR Part 73

[DA 03-2104; MB Docket No. 03-153, RM-10727; MB Docket No. 03-154, RM-10736; MB Docket No. 03-155, RM-10735]

Radio Broadcasting Services; Bangs, TX, De Beque, CO, Montauk, NY

AGENCY: Federal Communications Commission.

ACTION: Proposed rule.

SUMMARY: This document proposes three new allotments in Bangs, Texas, De Beque, Colorado, and Montauk, New York. The Audio Division requests comment on a petition filed by Charles Crawford proposing the allotment of Channel 250C3 at Bangs, Texas, as the community's first local aural transmission service. Channel 250C3 can be allotted to Bangs in compliance with the Commission's minimum distance separation requirements with a site restriction of 11.9 kilometers (7.4 miles) west to avoid a short-spacing to the license sites of Station KATX, Channel 249A, Eastland, Texas and Station KBFB, Channel 250C, Dallas, Texas. The reference coordinates for Channel 250C3 at Bangs are 31-41-32 North Latitude and 99-15-17 West Longitude. See Supplementary Information, infra.

DATES: Comments must be filed on or before August 25, 2003, and reply comments on or before September 9, 2003.

ADDRESSES: Federal Communications Commission, 445 Twelfth Street, SW., Washington, DC 20554. In addition to filing comments with the FCC, interested parties should serve the petitioner, his counsel, or consultant, as follows: Charles Crawford, 4553 Bordeaux Avenue, Dallas, TX 75205, Dan J. Alpert, Esq, c/o Garfield-Mesa County Line Broadcasters, 2120 N. 21st Road, Arlington, VA 22201, and Dana J. Puopolo, 2134 Oak Street, Unit C, Santa Monica, CA 90405.

FOR FURTHER INFORMATION CONTACT: Rolanda F. Smith, Media Bureau, (202) 418-2180.

SUPPLEMENTARY INFORMATION: This is a synopsis of the Commission's Notice of Proposed Rule Making, MB Docket Nos. 03-153, 03-154, 03-155, adopted July 1, 2003 and released July 3, 2003. The full text of this Commission decision is available for inspection and copying during regular business hours at the FCC's Reference Information Center, Portals II, 445 Twelfth Street, SW, Room CY-A257, Washington, DC 20554. The complete text of this decision may also be purchased from the Commission's duplicating contractor, Qualex International, Portals II, 445 12th Street, SW, Room CY-B402, Washington, DC 20554, telephone 202-863-2893, facsimile 202-863-2898, or via e-mail qualexint@aol.com.

The Audio Division requests comments on a petition filed by Garfield-Mesa County Line Broadcasters proposing the allotment of Channel 275C3 at De Beque, CO, as the community's first local aural transmission service. Channel 275C3 can be allotted to De Beque in compliance with the Commission's minimum distance separation requirements with a site restriction of 7.1 kilometers (4.4 miles) northwest to avoid a short-spacing to the license site of Station KPRU, Channel 277C2, Delta, CO. The reference coordinates for Channel 275C3 at De Beque are 39-22-36 North Latitude and 108-16-33 West Longitude.

The Audio Division requests comments on a petition filed by Dana J. Puopolo proposing the allotment of Channel 261A at Montauk, New York, as the community's third local aural transmission service. Channel 261A can be allotted to Montauk in compliance with the Commission's minimum distance separation requirements with a site restriction of 6.7 kilometers (4.2 miles) east to avoid a short-spacing to the license site of Station WEZN-FM, Channel 260B, Bridgeport, Connecticut. The reference coordinates for Channel 261A at Montauk are 41-03-13 North Latitude and 71-52-43 West Longitude.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for part 73 continues to read as follows:

Authority: 47 U.S.C. 154, 303, 334 and 336.

§ 73.202 [Amended]

2. Section 73.202(b), the Table of FM Allotments under Colorado, is amended by adding De Beque, Channel 275C3.

3. Section 73.202(b), the Table of FM Allotments under New York, is amended by adding Channel 261A at Montauk.

4. Section 73.202(b), the Table of FM Allotments under Texas, is amended by adding Bangs, Channel 250C3.

Federal Communications Commission.
John A. Karousos,
Assistant Chief, Audio Division, Media Bureau.

[FR Doc. 03-18231 Filed 7-17-03; 8:45 am]

BILLING CODE 6712-01-P